ENVIRONMENTAL PROTECTION AGENCY

[FRL-7223-1]

National Advisory Council for Environmental Policy and Technology (NACEPT) Superfund Subcommittee; Notice of Meeting

AGENCY: Environmental Protection Agency.

ACTION: Notice.

SUMMARY: Pursuant to the Federal Advisory Committee Act (FACA), Public Law 92-463, the U.S. Environmental Protection Agency (EPA) gives notice that the National Advisory Council for Environmental Policy and Technology (NACEPT) Superfund Subcommittee will meet on the dates and times described below. The meeting is open to the public, but, due to limited space, seating will be on a first-come basis.

DATES: The meeting will be held on June 18, 2002, from 8:30 a.m. to 5 p.m., and on June 19, 2002, from 8:30 p.m. to 12:15 p.m.

ADDRESSES: Holiday Inn and Suites, 625 First Street, Alexandria, VA.

FOR FURTHER INFORMATION CONTACT: Lois H. Gartner, Designated Federal Officer, Office of Emergency and Remedial Response (OERR), MC 5204G, U.S. Environmental Protection Agency, 1200 Pennsylvania Ave., NW., Washington, DC 20460, 703-603-9046, e-mail: gartner.lois@epa.gov.

SUPPLEMENTARY INFORMATION: EPA created the Superfund Subcommittee to undertake a dialogue about the future direction of the Superfund program in the context of other federal, state, and tribal cleanup programs. The Agency's charge to the Subcommittee requests that they discuss three key issues relevant to the Superfund program's future: the role of the National Priorities List (NPL), mega sites and program performance measures.

This first meeting of the Superfund Subcommittee will focus on discussions regarding the Subcommittee's charge and will also include presentations by EPA staff on relevant background information. On each day, there will be a limited time for public comment on the future direction of the Superfund program. Time allowed for individual presentations will be limited to 3 minutes, and all presenters must contact Lois Gartner (see contact information below) before June 10, 2002, and submit a brief statement of the general nature of the material to be presented. Presentations will be organized on a first-come basis. Written comments are encouraged, particularly if the material cannot be presented within the designated time limits, and must be sent to Ms. Gartner no later than June 14, 2002. To look at the complete agenda and to get more information, go to: www.epa.gov/oswer/sfsub.htm.

Dated: May 29, 2002.
Lois H. Gartner,
Designated Federal Officer, NACEPT Superfund Subcommittee.

[FR Doc. 02-13815 Filed 5-31-02; 8:45 am]

BILLING CODE 6560-50-P